DEPARTMENT OF THE INTERIOR

Bureau of Land Management

[CO-930-1430-ET; COC-017768]

Public Land Order No. 7488; Extension of Public Land Order No. 5979; Colorado

AGENCY: Bureau of Land Management, Interior.

ACTION: Public Land Order.

SUMMARY: This order extends Public Land Order No. 5979 for an additional 20-year period. This extension is necessary to continue the protection of two Bureau of Land Management administrative sites. The lands have been and will remain open to mineral leasing.

EFFECTIVE DATE: September 3, 2001.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by Section 204 of the Federal Land Policy and Management Act of 1976, 43 U.S.C. 1714 (1994), it is ordered as follows:

1. Public Land Order No. 5979, which withdrew public lands to protect two Bureau of Land Management administrative sites, is hereby extended for an additional 20-year period following its date of expiration.

2. This withdrawal will expire 20 years from the effective date of this order unless, as a result of a review conducted prior to the expiration date pursuant to Section 204(f) of the Federal Land Policy and Management Act of 1976, 43 U.S.C. 1714(f) (1994), the Secretary determines that the withdrawal shall be extended.

Dated: May 29, 2001.
Gale A. Norton,
Secretary of the Interior.

[FR Doc. 01-14826 Filed 6-12-01; 8:45 am]

BILLING CODE 4310-JB-P